DEPARTMENT OF HEALTH AND HUMAN SERVICES

Health Resources and Services Administration

Council on Graduate Medical Education; Notice of Meeting

In accordance with section 10(a)(2) of the Federal Advisory Committee Act (Pub. L. 92-463), notice is hereby given of the following meeting:

Name: Council on Graduate Medical Education (COGME).

Dates and Times: April 22, 2009, 8:30 a.m.-5 p.m.

Place: DoubleTree Hotel & Executive Meeting Center, 8120 Wisconsin Avenue, Bethesda, Maryland 20814, Telephone: (301) 652-2000.

Status: The meeting will be open to the public.

Agenda: On the morning of April 22, 2009, following the welcoming remarks from the COGME Chair and the Executive Secretary of COGME, there will be a short presentation given by Dr. Robert Phillips of COGME on his tracking of the COGME recommendations made in its 16th Report. Followed will be a presentation given by the American College of Physicians on two recent ACP papers concerning primary care.

In the late morning, Dr. Charles Roehrig of Altarum will present an update of his modeling and analysis for determining supply of and demand for residency positions by specialty. There will be discussions of COGME on the implications of this modeling and analysis work for its next report and continued activities for that report.

Agenda items are subject to change as priorities dictate.

Supplementary Information: COGME will join the Advisory Committee on Training in Primary Care Medicine and Dentistry (ACTPCMD), the National Advisory Council on Nurse Education and Practice (NACNEP) and the Advisory Committee on Interdisciplinary, Community-Based Linkages (ACICBL) on April 21, 2009, for the second Bureau of Health Professions (BHPr) All-Advisory Committee Meeting. Please refer to the Federal Register notice for the BHPr All Advisory Committee Meeting for additional details.

For Further Information Contact: Jerald M. Katzoff, Executive Secretary, COGME, Division of Medicine and Dentistry, Bureau of Health Professions, Parklawn Building, Room 9A-27, 5600 Fishers Lane, Rockville, Maryland 20857, Telephone (301) 443-4443.

Dated: March 17, 2009.
Alexandra Huttinger,
Director, Division of Policy Review and Coordination.

[FR Doc. E9-6231 Filed 3-20-09; 8:45 am]

BILLING CODE 4165-15-P